DEPARTMENT OF THE INTERIOR

Bureau of Land Management

[BLM_AZ_FRN; AZAZ106197256]

Notice of Application for Withdrawal Extension and Opportunity for Public Meeting; Diamond Rim Quartz Crystal Interpretative Area, Arizona

AGENCY: Bureau of Land Management, Interior.

ACTION: Notice.

SUMMARY: On behalf of the United States Department of Agriculture, the United States Forest Service (USFS) has filed an application with the Bureau of Land Management (BLM) requesting that the Secretary of the Interior extend the withdrawal created by Public Land Order (PLO) No. 7664, for an additional 20-year term. PLO No. 7664, which will currently expire on Jun 11, 2026, withdrew 990 acres of National Forest System (NFS) lands located within the Tonto National Forest from location and entry under the U.S. mining laws, subject to valid existing rights, to protect the Diamond Rim Quartz Crystal Interpretative Area, located in Gila County, Arizona, from potential adverse impacts from mining. This notice provides for the public to comment and request a public meeting for the 20-year withdrawal extension application.

DATES: Comments or requests for a public meeting must be received by April 3, 2025.

ADDRESSES: All comments or requests for a public meeting should be sent to the BLM Arizona State Office, 1 North Central Avenue, Suite 800, Phoenix, AZ 85004; faxed to (602) 417-9452; or sent by email to BLM_AZ_Withdrawal_Comments@blm.gov. The BLM will not consider comments via telephone calls.

FOR FURTHER INFORMATION CONTACT: Michael Ouellett, Realty Specialist, BLM Arizona State Office; telephone (602) 417-9561; email at mouellett@blm.gov; or you may contact the BLM office at the address listed in the ADDRESSES section. Individuals in the United States who are deaf, deafblind, hard of hearing, or have a speech disability may dial 711 (TTY, TDD, or TeleBraille) to access telecommunications relay services. Individuals outside the United States should use the relay services offered within their country to make international calls to the point-of-contact in the United States. You will receive a reply during normal business hours.

SUPPLEMENTARY INFORMATION: The USFS has filed an application requesting the extension of the withdrawal of 990 acres established by PLO No. 7664 (71 FR 33773), incorporated herein by reference. The USFS requests the 20-year withdrawal extension to protect the Diamond Rim Quartz Crystal Interpretative Area from potential mining-related adverse impacts. The subject NFS lands are located within the Tonto National Forest. The PLO No. 7664 legal description has been revised to reflect the current BLM Cadastral Survey guidance on legal land descriptions. The following described NFS lands are the subject of the USFS's withdrawal extension application:

Gila and Salt River Meridian, Arizona

T. 11 N., R. 11 E., partly unsurveyed.

Sec. 12, W½NE¼, W½, and W½SE¼;

Sec. 13, NW¼NW¼NE¼, NE¼NW¼, W½NW¼, N½SE¼NW¼, and N½NW¼SW¼;

Sec. 14, S½SW¼SW¼NE¼, S½SE¼SW¼NE¼, SE¼NE¼, NE¼SE¼, W½SE¼, N½NE¼SE¼SE¼, and N½NW¼SE¼SE¼; protraction block 38, that portion formerly known as sec. 1, SW¼.

The area described contains 990 acres.

The use of a right-of-way, interagency agreement, or cooperative agreement would not provide adequate protection of the specified lands.

No additional water rights are needed to fulfill the purpose of this withdrawal.

There are no suitable alternative sites since the withdrawal is for the protection of the natural and recreational values of the Diamond Rim Quartz Crystal Interpretative Area.

Before including your address, phone number, email address, or other personal identifying information in your comment, you should be aware that your entire comment, including your personal identifying information, may be made publicly available at any time. While you can ask us in your comment to withhold your personal identifying information from public review, we cannot guarantee that we will be able to do so.

This application will be processed in accordance with the regulations at 43 CFR 2310.4.

(Authority: 43 U.S.C. 1714(f) and 43 CFR 2310.4)

Mark Morberg,
Acting State Director.

[FR Doc. 2024-31589 Filed 1-2-25; 8:45 am]

BILLING CODE 3411-15-P